NUCLEAR REGULATORY COMMISSION

Advisory Committee on the Medical Uses of Isotopes: Meeting Notice

AGENCY: U.S. Nuclear Regulatory Commission.

ACTION: Notice of meeting.

SUMMARY: The U.S. Nuclear Regulatory Commission (NRC) will convene a teleconference meeting on July 17, 2003, between members of NRC staff and the Advisory Committee on the Medical Uses of Isotopes (ACMUI). This meeting will be held to discuss and develop the ACMUI's recommendations regarding NRC staff's proposed language to amend the training and experience requirements for authorized users, authorized medical physicists, authorized nuclear pharmacists, and radiation safety officers, as these requirements are currently outlined in the revised 10 CFR part 35. During this meeting, NRC staff and ACMUI will engage in detailed discussions pertaining to NRC staff's recommendations contained in a draft document that staff will later finalize and forward to the Commission for a vote. The draft document contains predecisional information not appropriate for public release. Therefore, the NRC staff has determined that this meeting must be closed to the public, so that the confidential nature of the document and the associated discussion is protected.

DATES AND TIME: July 17, 2003.

ADDRESSES: U.S. Nuclear Regulatory Commission, Two White Flint North Building, 11545 Rockville Pike, Rockville, MD 20852-2738.

FOR FURTHER INFORMATION CONTACT: Angela R. Williamson, telephone (301) 415-5030; e-mail arw@nrc.gov of the Office of Nuclear Material Safety and Safeguards, U.S. Nuclear Regulatory Commission, Washington, DC 20555-0001.

Conduct of the Meeting

Leon S. Malmud, M.D., designated Vice Chair, will conduct the meeting. Dr. Malmud will conduct the meeting in a manner that will facilitate the orderly conduct of business.

This meeting will be held in accordance with the Atomic Energy Act of 1954, as amended (primarily section 161a); the Federal Advisory Committee Act (5 U.S.C. App); and the Commission's regulations in Title 10, U.S. Code of Federal Regulations, part 7.

Dated: July 7, 2003.
Annette Vietti-Cook,
Secretary of the Commission.

[FR Doc. 03-17703 Filed 7-11-03; 8:45 am]

BILLING CODE 7590-01-P